DEPARTMENT OF TRANSPORTATION

Pipeline and Hazardous Materials Safety Administration

Office of Hazardous Materials Safety; Notice of Applications for Modification of Exemption

AGENCY: Pipeline and Hazardous Materials Safety Administration, DOT.

ACTION: List of applications for modification of exemption.

SUMMARY: In accordance with the procedures governing the application for, and the processing of, exemptions from the Department of Transportation's Hazardous Material Regulations (49 CFR Part 107, Subpart B), notice is hereby given that the Office of Hazardous Materials Safety has received the application described herein. This notice is abbreviated to expedite docketing and public notice. Because the sections affected, modes of transportation, and the nature of application have been shown in earlier Federal Register publications, they are not repeated here. Request of modifications of exemptions (e.g. to provide for additional hazardous materials, packaging design changes, additional mode of transportation, etc.) are described in footnotes to the application number. Application numbers with the suffix “M” demote a modification request. These applications have been separated from the new application for exemption to facilitate processing.

DATES: Comments must be received on or before April 29, 2005.

Address Comments To: Record Center, Pipeline and Hazardous Materials Safety Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street SW., Washington DC or at http://dms.dot.gov.

This notice of receipt of applications for modification of exemption is published in accordance with Part 107 of the Federal hazardous materials transportation law (49 U.S.C. 5117(b); 49 CFR 1.53(b)).

Issued in Washington, DC, on April 11, 2005.
R. Ryan Posten,
Exemptions Program Officer, Office of Hazardous Materials Exemptions & Approvals.

Modification Exemptions
Application number | Docket number | Applicant | Regulation(s) affected | Modification of exemption | Nature of exemption thereof
11244-M |  | Supercritical Thermal Systems, Inc. (formerly Aerospace Design & Development, Inc.), Longmont, CO | 49 CFR 173.316(c); 178.57 | 11244 | To modify the exemption to authorize an alternative outer shell material for the non-DOT specification titanium alloy cylinder transporting a Division 2.2 material.
11281-M |  | E.I. du Pont de Nemours & Company, Wilmington, DE | 49 CFR 172.101, Column 7, Special Provisions B14, T38 | 11281 | To modify the exemption to authorize the use of an additional portable tank specification and the transportation of an additional Class 8 material.
11903-M | RSPA-97-2604 | Comptank Corporation, Bothwell, ON | 49 CFR 107.503(b); 172.102(c)(3), SP B15, B23, B30, B32,; 173.241; 173.242; 173.243; 178.340; 178.342; 178.343; 180.405; 180.413(d) | 11903 | To modify the exemption to allow for alternative carog tank designs from the referenced drawings provided they are certified by a design certifying engineer.
12412-M | RSPA-2000-6827 | Hawkins, Inc., Minneapolis, MN | 49 CFR 177.834(h); 172.203(a); 172.302(c) | 12412 | To modify the exemption to allow the transportation and unloading of certain UN IBC and DOT Specification portable tanks containing incompatible materials on the same motor vehicle.
12842-M | RSPA-01-10751 | Onyx Environmental Services, L.L.C., Flanders, NJ | 49 CFR 173.156(b) | 12842 | To modify the exemption to authorize a reoffering provision of the package to a non-holder of the exemption and transportation of Division 2.1 and Division 2.2. materials to an alternative disposal facility.
13245-M | RSPA-03-15985 | Piper Metal Forming Corporation (Formerly Quanex), New Albany, MS | 49 CFR 173.302(a)(1); 175.3 | 13245 | To modify the exemption to authorize the use of non-refillable, non-DOT specification cylinders for all gases approved for shipment in DOT-3AL Specification cylinders.
13323-M | RSPA-03-16488 | U.S. Department of the Interior/U.S. Geological Survey, Woods Hole, MA | 49 CFR 173.302a | 13323 | To modify the exemption to authorize an alternative higher pressure-rated cover for the non-DOT specification cylinders transporting a Division 2.1 material.
13548-M | RSPA-04-17545 | Battery Council International (BCI) | 49 CFR 173.159 | 13548 | To modify the exemption to authorize alternative classifications for the transportation of battery fluid, acid.
13598-M | RSPA-04-18706 | Jadoo Power Systems Inc., Folsom, CA | 49 CFR 173.301(a)(1), (d) and (f) | 13598 | To modify the exemption to authorize an increased maximum water capacity to 3.25 pounds for the hydride canister design and the use of UN4G fiberboard boxes.
14145-M | PHMSA-05-20834 | T-AKE Naval Sea Systems Command, Washington, DC | 49 CFR 176.116 | 14145 | To reissue the exemption originally issued on an emergency basis for the transportation of certain Class 1 materials by vessel and provide relief from the general stowage requirements for Class 1 materials.

[FR Doc. 05-7529 Filed 4-13-05; 8:45 am]

BILLING CODE 4909-60-M